DEPARTMENT OF ENERGY

Federal Energy Regulatory Commission

Project No. 14142-000

East Maui Pumped Storage Water Supply LCC; Notice of Preliminary Permit Application Accepted for Filing and Soliciting Comments, Motions To Intervene, and Competing Applications

On April 1, 2011, East Maui Pumped Storage Water Supply LCC filed an application for a preliminary permit, pursuant to section 4(f) of the Federal Power Act (FPA), proposing to study the feasibility of the East Maui Pumped Storage Water Supply Project to be located on the Miliko Gulch, in Maui County, Hawaii. The sole purpose of a preliminary permit, if issued, is to grant the permit holder priority to file a license application during the permit term. A preliminary permit does not authorize the permit holder to perform any land-disturbing activities or otherwise enter upon lands or waters owned by others without the owners' express permission.

The proposed project will consist of the following: (1) A 400-foot-long, 250-foot-high earthen dam impounding an upper reservoir with a 40-acre surface area and storage volume of 2,750 acre-feet; (2) a 15,600-foot-long, 5-foot-diameter steel penstock; (3) a 1,400-foot-long, 50-foot-high intermediate earthen dam impounding an intermediate reservoir with a 55-acre surface area and storage volume of 2,750 acre-feet; (4) a 800-foot-long, 200-foot-high intermediate earthen dam impounding a lower reservoir with a 50-acre surface area and storage volume of 5,000 acre-feet; (5) a 7,000-foot-long, 6-foot-diameter steel penstock; (6) a powerhouse containing two Francis-type pump units at 15-megawatts each; (7) a 11-mile-long, 138-kilovolt transmission line connecting to the InterIsland direct current transmission line. The estimated annual generation of the project would be 120 gigawatt-hours.

Applicant Contact: Mr. Bart M. O'Keeffe, East Maui Pumped Storage Water Supply LLC; P.O. Box 1916; Discovery Bay, CA 94505; phone: (925) 634-1550.

FERC Contact: Ian Smith; phone: (202) 502-8943.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14142-000) in the docket number field to access the document. For assistance, contact FERC Online Support.

Dated: May 6, 2011.
Kimberly D. Bose,
Secretary.

[FR Doc. 2011-11730 Filed 5-12-11; 8:45 am]

BILLING CODE 6717-01-P